DEPARTMENT OF TRANSPORTATION

Federal Railroad Administration

[Docket Number FRA-2014-0034]

Petition for Waiver of Compliance

In accordance with Part 211 of Title 49 Code of Federal Regulations (CFR), this document provides the public notice that by a letter dated March 25, 2014, Norfolk Southern Railway (NS), petitioned the Federal Railroad Administration (FRA) for a waiver of compliance from certain provisions of the Federal railroad safety regulations contained at 49 CFR Part 232, Brake System Safety Standards for Freight and Other Non-Passenger Trains and Equipment; End-of-Train Devices. FRA assigned the petition Docket Number FRA-2014-0034.

Specifically, NS seeks a waiver of compliance from 49 CFR 232.215, Transfer train brake tests. This section states a transfer train, as defined in 49 CFR 232.5, Definitions, shall receive a specified brake test performed by a qualified person before proceeding. NS seeks approval to perform a Class 3 brake test pursuant to 49 CFR 232.211(b) on freight cars that are in switch service between the NS Decatur Yard and Archer Daniels Midland's East Plant, West Plant, and New Yard (collectively “ADM”) facilities, in Decatur, IL, instead of the specified transfer train brake test. The switch moves that are the subject of this waiver request range from 0.2 miles to a maximum of 0.9 miles.

NS states that performing the Class 3 brake test provides an opportunity to verify the safe functioning of the brakes and also to supplement the safety appliance inspection made upon arrival at the yard inbound or during assembly of the move to ADM. An equivalent level of safety is achieved through the performance of this test, as the rear car's set and release confirms the functioning of the brake system. In addition, the moves to ADM are 0.9 miles plus the length of the cut making up the move. Of additional benefit is the elimination of potentially burdensome delays due to blocked crossings and undue congestion to the community at road crossings that could occur while train crews perform a full transfer train brake test.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 21, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on July 8, 2014.
Ron Hynes,
Director, Office of Safety Assurance and Compliance.

[FR Doc. 2014-17174 Filed 7-21-14; 8:45 am]

BILLING CODE 4910-06-P